DEPARTMENT OF DEFENSE

Department of Navy

[No. USN-2006-0063]

Proposed Collection; Comment Request

Correction

In notice document 06-9400 beginning on page 68568 in the issue of Monday, November 27, 2006, make the following correction:

On the same page, in the second column, in the DATES section, in the second line, “January 26, 2006” should read “January 26, 2007.”

[FR Doc. C6-9400 Filed X-XX-06; 8:45 am]

BILLING CODE 1505-01-D

DEPARTMENT OF EDUCATION

Office of Special Education and Rehabilitative Services; Overview Information; State Personnel Development Grants Program

Correction

In notice document E6-20022 beginning on page 68571 in the issue of Monday, November 27, 2006, make the following correction:

On the same page, in the second column, under DATES, under the heading “Deadline for Transmittal of Applications,” “May 29, 2007” should read “March 27, 2007.”

[FR Doc. Z6-20022 Filed 11-30-06; 8:45 am]

BILLING CODE 1505-01-D

ENVIRONMENTAL PROTECTION AGENCY

40 CFR Part 122

[OW-2003-0063; FRL-8248-1]

RIN 2040-AE79

Application of Pesticides to Waters of the United States in Compliance With FIFRA

Correction

In rule document E6-20002 beginning on page 68483 in the issue of Monday, November 27, 2006, make the following correction:

On the same page, in the second column, under DATES, “January 26, 2006” should read “January 26, 2007.”

[FR Doc. Z6-20002 Filed 11-30-06; 8:45 am]

BILLING CODE 1505-01-D

DEPARTMENT OF TRANSPORTATION

Federal Aviation Administration

Acceptance of Transfer Statements Under UCC 9-616, for Recording in Aircraft Records

Correction

In notice document 06-9250 beginning on page 67007 in the issue of Friday, November 17, 2006, make the following correction:

1. On page 67008, in the first column, under SUPPLEMENTARY INFORMATION, in the second paragraph, in the tenth line, “39.17(d)” should read “49.17(d).”

2. On page 67009, in the first column, in the first undesignated paragraph, in the third line, “9-916” should read “9-619”.

[FR Doc. C6-9250 Filed 11-30-06; 8:45 am]

BILLING CODE 1505-01-D